DEPARTMENT OF ENERGY

International Energy Agency Meeting

AGENCY: Department of Energy.

ACTION: Notice of meeting.

SUMMARY: The Industry Advisory Board (IAB) to the International Energy Agency (IEA) will meet on March 21, 2006, at the headquarters of the IEA in Paris, France, in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on March 21, 2006, beginning at 8:30 a.m. The purpose of this notice is to permit attendance by representatives of U.S. company members of the IAB at a meeting of the IEA's Standing Group on Emergency Questions (SEQ), which is scheduled to be held at the IEA on March 21 beginning at 10:30 a.m., including a preparatory encounter among company representatives from approximately 8:30 a.m. to 9:15 a.m. The agenda for the preparatory encounter is a review of the agenda for the SEQ meeting.

The agenda for the SEQ meeting is under the control of the SEQ. It is expected that the SEQ will adopt the following agenda:

1. Adoption of the Agenda.

2. Approval of the Summary Record of the 115th Meeting.

3. The IEA Collective Action Agreed on September 2, 2005, in Response to Disrupted Oil Supplies.

—Summary of the IEA Collective Action of 2005.

—Evaluation of the IEA Collective Action of 2005.

4. Status of Compliance with IEP Stockholding Commitments.

—Status of Replenishment Plans.

—Reports by Non-Complying Member Countries.

5. Program of Work.

—The SEQ's Responses to the Governing Board Brainstorming Process.

—Evaluation of Program of Work 2005.

—SEQ Activities Planned for 2006.

—First Steps in the SEQ Program of Work for 2007-2008.

6. Emergency Response Review Program.

—Emergency Response Review of Hungary.

—Emergency Response Review of Spain.

—Questionnaire Response of Turkey.

—Updated Emergency Response Review Schedule.

—Plans for a Questionnaire on Oil Storage Capacity.

7. Report on Current Activities of the IAB.

8. Policy and Other Developments in Member Countries.

—Belgium.

9. Other Emergency Response Activities.

—Plans for First Meeting of SEQ Working Group on IEA Emergency Reserve Calculation Methodology.

10. Activities with Non-Member Countries and International Organizations.

—NMC Activities Related to Emergency Preparedness.

—Chinese Translation of “Oil Supply Security” Book.

—Draft Emergency Response Questionnaire for Non-Member Countries.

11. Documents for Information.

—Emergency Reserve Situation of IEA Member Countries on January 1, 2006.

—Emergency Reserve Situation of IEA Candidate Countries on January 1, 2006.

—Base Period Final Consumption: 1Q2005-4Q2005.

—Monthly Oil Statistics: December 2005.

—Update of Emergency Contacts List.

12. Other Business.

—Dates of Next SEQ Meetings (tentative):

June 20-21, 2006.

November 16-17, 2006.

As provided in section 252(c)(1)(A)(ii) of the Energy Policy and Conservation Act (42 U.S.C. 6272(c)(1)(A)(ii)), the meetings of the IAB are open to representatives of members of the IAB and their counsel; representatives of members of the IEA's Standing Group on Emergency Questions; representatives of the Departments of Energy, Justice, and State, the Federal Trade Commission, the General Accounting Office, Committees of Congress, the IEA, and the European Commission; and invitees of the IAB, the SEQ, or the IEA.

Issued in Washington, DC, March 6, 2006.
Samuel M. Bradley,
Assistant General Counsel for International and National Security Programs.

[FR Doc. 06-2324 Filed 3-10-06; 8:45 am]

BILLING CODE 6450-01-P